DEPARTMENT OF ENERGY

Federal Energy Regulatory Commission

[Docket No. CP01-76-000]

Cove Point LNG Limited Partnership; Notice of Site Visit

June 15, 2001.

On July 3, 2001, at 9:00 a.m., staff from the Office of Energy Projects (OEP) will conduct a pre-certification site visit of the Cove Point LNG Limited Partnership (Cove Point LNG) liquefied natural gas (LNG) import terminal in Calvert County, Maryland. The purpose of the site visit will be to review options for LNG transfer line spill impoundment systems in response to the Commission's May 3, 2001 data request. Representatives of Cove Point LNG will accompany the OEP staff.

All interested parties may attend the site visit. For further information on attending the site visit, please contact the Commission's Office of External Affairs at (202) 208-0004.

Linwood A. Watson, Jr.,
Acting Secretary.

[FR Doc. 01-15582 Filed 6-20-01; 8:45 am]

BILLING CODE 6717-01-M